DEPARTMENT OF COMMERCE

National Oceanic and Atmospheric Administration

RIN 0648-XD539

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Joint VMS/Enforcement Committee and Advisory Panel Meeting to consider actions affecting New England fisheries in the exclusive economic zone (EEZ). Recommendations from this group will be brought to the full Council for formal consideration and action, if appropriate.

DATES: This meeting will be held on Monday, October 27, 2014 at 1 p.m.

ADDRESSES: Meeting address: The meeting will be held at the Courtyard by Marriott, 32 Exchange Terrace, Providence, RI 02903; telephone: (401) 272-1191; fax: (401) 272-1416.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Committee and Advisory Panel will review Scallop Framework 26, including (1) potential changes to access area boundaries; (2) measures to allow a limited access vessel to declare out of the fishery on return to port; (3) measures to allow fishing in state waters after federal Northern Gulf of Maine (NGOM) TAC is reached; (4) measures to make turtle regulations consistent in the scallop fishery; (5) measures to modify the existing area closure accountability measures in place for Georges Bank and Southern New England/Mid-Atlantic yellowtail flounder, and develop new accountability measures for northern windowpane flounder; and measures to modify flaring bar regulations on turtle deflector dredges. They will also review a measure proposed in Groundfish Amendment 18, to allow vessels to use a 5.5 inch codend within the redfish exemption area on trips with an observer or approved electronic monitoring technology onboard. Other business may be discussed if time permits.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 6, 2014.
Tracey L. Thompson,
Acting Deputy Director, Office of Sustainable Fisheries, National Marine Fisheries Service.

[FR Doc. 2014-24110 Filed 10-8-14; 8:45 am]

BILLING CODE 3510-22-P